DEPARTMENT OF HOMELAND SECURITY

U.S. Customs and Border Protection

Notice of Revocation of Customs Brokers' License

AGENCY: U.S. Customs and Border Protection, Department of Homeland Security.

ACTION: Customs broker license revocation.

SUMMARY: This document provides notice of the revocation of one (1) customs broker's license without prejudice.

FOR FURTHER INFORMATION CONTACT: Everett Burns, International Trade Specialist, Broker Management Branch, Office of International Trade, (202) 863-6319.

SUPPLEMENTARY INFORMATION: This document provides notice that, pursuant to section 641 of the Tariff Act of 1930, as amended (19 U.S.C. 1641), and section 111.45(a) of title 19 of the Code of Federal Regulations (19 CFR 111.45(a)), the following customs broker's license is revoked by operation of law without prejudice.

Last/company name | First name | License # | Port of issuance
MVP Global Logistics, LLC |  | 29663 | Boston.

Dated: August 22, 2014.
Richard F. DiNucci,
Acting Assistant Commissioner, Office of International Trade.

[FR Doc. 2014-20403 Filed 8-26-14; 8:45 am]

BILLING CODE 9111-14-P